DEPARTMENT OF HEALTH AND HUMAN SERVICES

Renewal of Charters for Certain Federal Advisory Committees

AGENCY: Department of Health and Human Services, Office of the Secretary, Office of the Assistant Secretary for Health.

ACTION: Notice.

SUMMARY: As stipulated by the Federal Advisory Committee Act, as amended (5 U.S.C. App), the U.S. Department of Health and Human Services is hereby announcing that the charters have been renewed for the following federal advisory committees for which Office of the Assistant Secretary for Health provides management support: Chronic Fatigue Syndrome Advisory Committee (CFSAC); President's Council on Fitness, Sports, and Nutrition (PCFSN); Secretary's Advisory Committee on Human Research Protections (SACHRP); and Advisory Committee on Blood Safety and Availability (ACBSA). Functioning as federal advisory committees, these committees are governed by the provisions of the Federal Advisory Committee Act (FACA). Under FACA, the charter for a federal advisory committee must be renewed every two years in order for the committee to continue to operate.

FOR FURTHER INFORMATION CONTACT: Olga B. Nelson, Committee Management Officer, Office of the Assistant Secretary for Health, U.S. Department of Health and Human Services, 200 Independence Avenue SW., Room 714B; Washington, DC 20201; (202) 690-5205.

SUPPLEMENTARY INFORMATION: CFSAC was established on September 5, 2002 as a discretionary federal advisory committee. The Committee was established to advise, consult with, and make recommendations to the Secretary, through the Assistant Secretary for Health, on a broad range of topics including (1) The current state of knowledge and research about the epidemiology and risk factors relating to chronic fatigue syndrome (CFS), and identifying potential opportunities in these areas; (2) current and proposed diagnosis and treatment methods for chronic fatigue syndrome; and (3) development and implementation of programs to inform the public, health care professionals, and the biomedical, academic, and research communities about chronic fatigue syndrome advances.

One amendment was proposed and approved for the new charter. The Committee structure has been expanded to include three non-voting liaison representative positions. These positions will be occupied by representatives from organizations that have interest in, and/or are concerned with, the issues of individuals with CFS. Individuals will be designated by their organizations to serve as non-voting liaison representatives for a term not to exceed two years. The designated federal officer (DFO) for CFSAC or designee will select the organizations to serve in the non-voting liaison representative positions. The non-voting liaison representatives will not receive compensation.

On August 29, 2012, the Secretary of Health and Human Services approved renewal of the CFSAC charter. The new charter was made effective and filed with the appropriate Congressional committees and the Library of Congress on September 5, 2012. Renewal of the CFSAC charter provides authorization for the Committee to continue to operate until September 5, 2014. A copy of the Committee charter is available on the CFSAC Web site at http://www.hhs.gov/advcomcfs.

The PCFSN is a non-discretionary federal advisory committee. The PCFSN was established under Executive Order 13545, dated June 22, 2010. This authorizing directive was issued to amend the purpose, function, and name of the Council, which formerly operated as the President's Council on Physical Fitness and Sports (PCPFS). The scope of the Council was changed to include nutrition to bring attention to the importance of good nutrition with regular physical activity for maintaining a healthy lifestyle. The PCFSN is the only federal advisory committee that is focused solely on the promotion of physical activity, fitness, sports, and nutrition. Since the PCFSN was established by Presidential directive, appropriate action had to be taken by the President or agency head to authorize continuation of the PCFSN. The President issued Executive Order 13585, dated September 30, 2011, authorizing the PCFSN to continue to operate until September 30, 2013.

No amendments were recommended for the PCFSN charter. The charter was approved by the Secretary of Health and Human Services and filed with the appropriate Congressional committees and the Library of Congress on September 10, 2012. A copy of the Council charter is available on the PCFSN Web site at http://fitness.gov.

SACHRP is a discretionary federal advisory committee. SACHRP provides advice to the Secretary, through the Assistant Secretary for Health, on matters pertaining to the continuance and improvement of functions within the authority of the Department of Health and Human Services concerning protections for human subjects in research.

No amendments were recommended for the SACHRP charter. On September 21, 2012, the Secretary of Health and Human Services approved renewal of the SACHRP charter. The new charter was filed with the appropriate Congressional committees and the Library of Congress on October 1, 2012. SACHRP is authorized to continue to operate until October 1, 2014. A copy of the charter is available on the Committee Web site at http://www.hhs.gov/ohrp/sachrp/.

The ACBSA is a discretionary federal advisory committee. The Committee was established to provide advice to the Secretary, through the Assistant Secretary for Health, on a range of policy issues around the safety and availability of the blood supply and blood products.

The following amendments were proposed and approved for the ACBSA charter: (1) The Committee title has been changed to Advisory Committee on Blood and Tissue Safety and Availability (ACBTSA); (2) the scope of work to be performed by the Committee has been clarified. For solid organs and blood stem cells, the Committee's scope will be limited to policy issues related to donor derived infectious disease complications of transplantation; (3) the Committee's scope of activities and duties have been expanded to include tissues because the ACBTSA has responsibility for providing advice and making recommendations on transplantation; and (4) the Committee structure has been expanded to increase the number of official representative members to nine to allow representation from the American Association of Tissue Banks, the Eye Bank Association of America, and an organ procurement organization.

On October 9, 2012, the new charter was approved by the Secretary of Health and Human Services and filed with the appropriate Congressional committees and the Library of Congress. ACBTSA is authorized to operate until October 9, 2014. A copy of the charter can be obtained on the ACBTSA Web site at http://www.hhs.gov/ash/bloodsafety/index.html.

Copies of the charters for the designated committees also can be obtained by accessing the FACA database that is maintained by the Committee Management Secretariat under the General Services Administration. The Web site address for the FACA database is http://fido.gov/facadatabase.

Dated: October 22, 2012.
Howard K. Koh,
Assistant Secretary for Health.

[FR Doc. 2012-26395 Filed 10-25-12; 8:45 am]

BILLING CODE 4150-28-P